NATIONAL CREDIT UNION ADMINISTRATION

Sunshine Act Meeting

TIME AND DATE: 3 p.m., Wednesday, March 21, 2012.

PLACE: Board Room, 7th Floor, Room 7047, 1775 Duke Street, Alexandria, VA 22314-3428.

STATUS: Closed.

MATTERS TO BE CONSIDERED: 1. Consideration of Supervisory Activity. Closed pursuant to some or all of the following: exemptions (8), (9)(i)(B) and 9(ii).

FOR FURTHER INFORMATION CONTACT: Mary Rupp, Secretary of the Board, Telephone: 703-518-6304

Mary Rupp,
Board Secretary.

[FR Doc. 2012-7090 Filed 3-20-12; 4:15 pm]

BILLING CODE 7535-01-P